DEPARTMENT OF THE INTERIOR

Minerals Management Service

Agency Information Collection Activities: Submitted for Office of Management and Budget (OMB) Review; Comment Request

AGENCY: Minerals Management Service (MMS), Interior.

ACTION: Notice of revision of an information collection (1010-0050).

SUMMARY: To comply with the Paperwork Reduction Act of 1995 (PRA), we are notifying the public that we have submitted to OMB an information collection request (ICR) to renew approval of the paperwork requirements in the regulations under 30 CFR part 250, “Pipelines and Pipeline Rights-of-Way,” and related documents. This notice also provides the public a second opportunity to comment on the paperwork burden of these regulatory requirements.

DATES: Submit written comments by February 22, 2006.

ADDRESSES: You may submit comments on this information collection directly to the Office of Management and Budget (OMB), Office of Information and Regulatory Affairs, OMB, Attention: Desk Officer for the Department of the Interior via OMB email: (OIRA_DOCKET@omb.eop.gov); or by fax (202) 395-6566; identify with (1010-0050).

Submit a copy of your comments to the Department of the Interior, MMS, via:

• Email MMS at rules.comments@mms.gov. Use Information Collection Number 1010-0050 in the subject line.

• Fax: 703-787-1093. Identify with Information Collection Number 1010-0050.

• Mail or hand-carry comments to the Department of the Interior; Minerals Management Service; Attention: Rules Processing Team (RPT); 381 Elden Street, MS-4024; Herndon, Virginia 20170-4817. Please reference “Information Collection 1010-0050” in your comments.

FOR FURTHER INFORMATION CONTACT: Cheryl Blundon, Rules Processing Team, (703) 787-1600. You may also contact Cheryl Blundon to obtain a copy, at no cost, of the regulations and forms that require the subject collection of information.

SUPPLEMENTARY INFORMATION: Title: 30 CFR 250, Pipelines and Pipeline Rights-of-Way.

Form: MMS-2030, Outer Continental Shelf (OCS) Right-of-Way Grant Bond.

OMB Control Number: 1010-0050.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1334(e) authorizes the Secretary to grant rights-of-way through the submerged lands of the OCS for pipelines “* * * for the transportation of oil, natural gas, sulphur, or other minerals, or under such regulations and upon such conditions as may be prescribed by the Secretary, * * * including (as provided in section 1347(b) of this title) assuring maximum environmental protection by utilization of the best available and safest technologies, including the safest practices for pipeline burial. * * *”

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Minerals Management Service (MMS) is required to charge the full cost for services that provide special benefits or privileges to an identifiable non-Federal recipient above and beyond those which accrue to the public at large. Pipeline rights-of-way and assignments are subject to cost recovery, and MMS regulations specify filing fees for applications.

This notice concerns the reporting and recordkeeping elements of 30 CFR 250, subpart J, Pipelines and Pipeline Rights-of-Way, and related Notices to Lessees and Operators (NTLs) that clarify and provide additional guidance on some aspects of the regulations. Included with this submission is form MMS-2030, Outer Continental Shelf Right-of-Way Grant Bond. Section 250.1011(a) requires applicants for, and holders of, a right-of-way to provide and maintain a $300,000 bond (in addition to the bond coverage required under 30 part CFR 256), as well as additional security MMS determines is necessary. Respondents submit form MMS-2030 for these right-of-way grant bonds. Responses are mandatory. No questions of a “sensitive” nature are asked. MMS will protect proprietary information according to 30 CFR 250.196, “Data and information to be made available to the public,” 30 CFR part 252, “OCS Oil and Gas Information Program,” and the Freedom of Information Act (5 U.S.C. 552) and its implementing regulations (43 CFR part 2).

The lessees and transmission companies design the pipelines that they install, maintain, and operate. To ensure those activities are performed in a safe manner, MMS needs information concerning the proposed pipeline and safety equipment, inspections and tests, and natural and manmade hazards near the proposed pipeline route. MMS field offices use the information collected under subpart J to review pipeline designs prior to approving an application for a right-of-way or a pipeline permitted under a lease to ensure that the pipeline, as constructed, will provide for safe transportation of minerals through the submerged lands of the OCS. They review proposed routes of a right-of-way to ensure that the right-of-way, if granted, would not conflict with any State requirements or unduly interfere with other OCS activities. MMS field offices review plans for taking pipeline safety equipment out of service to ensure alternate measures are used that will properly provide for the safety of the pipeline and associated facilities (platform, etc.). They review notification of relinquishment of a right-of-way grant and requests to abandon pipelines to ensure that all legal obligations are met and pipelines are properly abandoned. MMS inspectors monitor the records concerning pipeline inspections and tests to ensure safety of operations and protection of the environment and to schedule their workload to permit witnessing and inspecting operations. Information is also necessary to determine the point at which DOI or DOT has regulatory responsibility for a pipeline and to be informed of the responsible operator if not the same as the right-of-way holder.

Frequency: On occasion and annually.

Estimated Number and Description of Respondents: Approximately 117 lessees and 210 holders of pipeline rights-of-way.

Estimated Reporting and Recordkeeping “Hour” Burden: The estimated annual “hour” burden for this information collection is a total of 107,774 hours. The following chart details the individual components and estimated hour burdens. In calculating the burdens, we assumed that respondents perform certain requirements in the normal course of their activities. We consider these to be usual and customary and took that into account in estimating the burden.

Citation 30 CFR 250 subpart J and related NTL(s) | Reporting & recordkeeping requirement | Hour burden | Average No. annual responses | Annual burden hours
1000(b), 1007(a) | Submit application to install new lease-term pipeline (P/L), including exceptions/departures, consents and notices, required reports, and attachments | 140 | 280 new lease-term P/Ls | 39,200
1000(b), (d); 1007(a); 1009(a); 1011(a); 1015; 1016 | Apply for P/L right-of-way (ROW) grant and installation of new ROW P/L, including exceptions/departures, consents and notices, required reports, and attachments | 140 | 225 new ROW P/Ls | 31,500
1000(b); 1007(b); 1015; 1017 | Submit application to modify lease-term or ROW P/L or ROW grant, including exceptions/departures; notify operators of deviation | 30 | 320 modifications | 9,600
1000(b); 1010(h); 1014 | Apply to relinquish P/L ROW grant, including exceptions/departures | 8 | 160 P/L ROW relinquishments | 1,280
1000(c)(2) | Identify in writing P/L operator on ROW if different from ROW grant holder | ¼ | 4 submissions | 1
1000(c)(3) | Mark specific point on P/L where operating responsibility transfers to transporting operator or depict transfer point on a schematic located on the facility. One-time requirement after final rule published; now part of application or construction process involving no additional burdens. |  |  | 0
1000(c)(4) | Petition to MMS for exceptions to general operations transfer point description | 5 | 1 petition | 5
|  | (None received to date) |  |
1000(c)(8) | Request MMS recognize valves landward of last production facility but still located on OCS as point where MMS regulatory authority begins | 1 | 1 request | 1
1000(c)(12) | Petition to MMS to continue to operate under DOT regulations upstream of last valve on last production facility | 40 | 1 petition | 40
|  | (None received to date) |  |
1000(c)(13) | Transporting P/L operator petition to DOT and MMS to continue to operate under MMS regulations | 40 | 1 petition | 40
|  | (None received to date) |  |
1004(c) | Place sign on safety equipment identified as ineffective and removed from service | See footnote ¹ |  | 0
1007(a)(4) | Submit required documentation under API RP 17J | 150 hours | 12 submissions | 1,800
1008(a), (c), (d), (e), (f), (h) | Notify MMS; and as requested submit procedures before performing work; and submit post-report on P/L or P/L safety equipment repair, removal from service, analysis results, or potential measurements | 16 | 838 notices/reports | 13,408
1008(b) | Submit P/L construction report | 16 | 173 reports | 2,768
1008(g) | Submit plan of corrective action and report of remedial action | 16 | 4 plans/reports | 64
1010(c) | Notify MMS of any archaeological resource discovery | 4 | 2 discovery notices | 8
1010(d) | Inform MMS of P/L ROW holder's name and address changes | Exempt under 5 CFR 1320.3(h) |  | 0
1011(a) | Submit surety bond on form MMS-2030 | GOM 0.25 | 50 forms | 13 (rounded)
|  | POCS 3 | 3 forms | 9
1015 | Apply to convert lease-term P/L to ROW grant P/L; notify operators of deviation, including various exceptions/departures | 25 | 26 conversions | 650
1016 | Request opportunity to eliminate conflict when application has been rejected | 2 | 1 request | 2
1018 | Apply for assignment of a ROW grant | 16 | 135 assignments | 2,160
1000-1019 | General departure and alternative compliance requests not specifically covered elsewhere in subpart J regulations | 2 | 175 requests | 350
Subtotal Reporting | 2,412 | 102,899
1000-1008 | Make available to MMS design, construction, operation, maintenance, testing, and repair records on lease-term P/Ls ² | 2 | 110 lease-term P/L operators | 220
1005(a) | Inspect P/L routes for indication of leakage ¹, record results, maintain records 2 years ² | 2 per month = 24 | 170 lease-term or ROW P/L ops | 4,080
1010(g) | Make available to MMS design, construction, operation, maintenance, testing, and repair records on P/L ROW area and improvements ² | 5 | 115 P/L ROW holders | 575
Subtotal Recordkeeping | 395 | 4,875
Total Hour Burden |  |  | 2,807 | 107,774

Estimated Reporting and Recordkeeping “Non-Hour Cost” Burden: The estimated “non-hour cost” burden for this information collection is a total of $329,700 rounded to $330,000. These cost burdens are for filing fees associated with new applications ($2,350 per application) and filing conversion applications ($200 per filing fee) according to § 250.1015(a), or to file assignment applications ($170 per filing) according to § 250.1018(b).

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 1, 2005, we published a Federal Register notice (70 FR 31502) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by February 22, 2006.

Public Comment Procedures: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz (202) 208-7744.

Dated: August 29, 2005.
E.P. Danenberger,
Chief, Office of Offshore Regulatory Programs.

[FR Doc. E6-690 Filed 1-20-06; 8:45 am]

BILLING CODE 4310-MR-P